AGENCY FOR INTERNATIONAL DEVELOPMENT

Draft Guidance on the Definition and Use of FY2000—Food for Peace Funds for Children Affected by HIV/AIDS

Pursuant to the Agriculture Market and Transition Act of 1996 (Pub. L. 480, as amended), notice is hereby given that the Draft Guidance On The Definition and Use of FY2000—Food for Peace Funds for Children Affected by HIV/AIDS is available to interested parties for the required thirty (30) day comment period.

Individuals who wish to receive a copy of these draft guidelines may download them from the USAID website at:

http://www.info.usaid.gov/hum_response/ffp/

or contact:

Office of Food for Peace, Agency for International Development, RRB 7.06-120, 1300 Pennsylvania Avenue, Washington, DC 20523-0809.

Contact person: Gwen Johnson, (202) 712-0664. Individuals who have questions or comments on these draft guidelines should contact Richard Newberg at (202) 712-1828.

The thirty day comment period will begin on the date that this announcement is published in the Federal Register.

Dated: April 24, 2000.
William T. Oliver,
Director, Office of Food for Peace, Bureau for Humanitarian Response.

[FR Doc. 00-11039 Filed 5-2-00; 8:45 am]

BILLING CODE 6116-01-M